DEPARTMENT OF THE INTERIOR

National Park Service

[N6374; NPS-WASO-NAGPRA-NPS0040660; PPWOCRADN0-PCU00RP14.R50000]

Notice of Intended Repatriation: Virginia Museum of Fine Arts, Richmond, VA

AGENCY: National Park Service, Interior.

ACTION: Notice.

SUMMARY: In accordance with the Native American Graves Protection and Repatriation Act (NAGPRA), the Virginia Museum of Fine Arts intends to repatriate certain cultural items that meet the definition of objects of cultural patrimony and that have a cultural affiliation with the Indian Tribes or Native Hawaiian organizations in this notice.

DATES: Repatriation of the cultural items in this notice may occur on or after August 29, 2025.

ADDRESSES: Send additional, written requests for repatriation of the cultural items in this notice to Siera Hyte, Virginia Museum of Fine Arts 200 N Boulevard, Richmond, VA 23220, email siera.hyte@vmfa.museum.

SUPPLEMENTARY INFORMATION: This notice is published as part of the National Park Service's administrative responsibilities under NAGPRA. The determinations in this notice are the sole responsibility of the Virginia Museum of Fine Arts and additional information on the determinations in this notice, including the results of consultation, can be found in the summary or related records. The National Park Service is not responsible for the determinations in this notice.

Abstract of Information Available

A total of three cultural items have been requested for repatriation. The three objects of cultural patrimony are baskets made of willow, sedge root, bulrush, feathers, clamshell disk beads, and ferns. One basket is dated ca. 1897 and was acquired by the museum as a gift from Katherine B. Wallace in 2011. Ms. Wallace acquired the basket as a gift from Helen Hannon, who inherited it from her father, Reverend John Hannon. Museum records indicated that Reverend Hannon acquired the basket while working as a pastor in Ukiah, California around 1897. The other two baskets are dated ca. 1900 and were acquired by the museum as a part of a gift/purchase agreement with Robert and Nancy Nooter of Washington, DC in 2017 and 2018. The basket acquired in 2017 is labelled “Coiled Gift Basket” and was purchase by the Nooters from Gene Quintana in 1986, but beyond that date no further provenance information is known. The other basket, acquired in 2018, has no known provenance. Results of consultation with the Shabaldano Kai/Sherwood Valley Rancheria of Pomo Indians of California's Tribal Historic Preservation Office representatives confirm that these three baskets are objects of cultural patrimony. To our knowledge, no potentially hazardous substances were used to treat the baskets.

Determinations

The Virginia Museum of Fine Arts has determined that:

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Sherwood Valley Rancheria of Pomo Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 29, 2025. If competing requests for repatriation are received, the Virginia Museum of Fine Arts must determine the most appropriate requestor prior to repatriation. Requests for joint repatriation of the cultural items are considered a single request and not competing requests. The Virginia Museum of Fine Arts is responsible for sending a copy of this notice to the Indian Tribes and Native Hawaiian organizations identified in this notice and to any other consulting parties.

Authority: Native American Graves Protection and Repatriation Act, 25 U.S.C. 3004 and the implementing regulations, 43 CFR 10.9.

Dated: July 15, 2025.
Mariah Soriano,
Acting Manager, National NAGPRA Program.

[FR Doc. 2025-14372 Filed 7-29-25; 8:45 am]

BILLING CODE 4312-52-P